DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species and/or marine mammals.

DATES: Written data, comments or requests must be received by September 20, 2004.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax (703) 358-2281.

FOR FURTHER INFORMATION CONTACT: Division of Management Authority, telephone (703) 358-2104.

SUPPLEMENTARY INFORMATION:

Endangered Species

The public is invited to comment on the following applications for a permit to conduct certain activities with endangered species. This notice is provided pursuant to Section 10(c) of the Endangered Species Act of 1973, as amended (16 U.S.C. 1531, et seq.). Written data, comments, or requests for copies of these complete applications should be submitted to the Director (address above).

Applicant: Yerkes National Primate Research Center, Atlanta, GA, PRT-837068.

The applicant requests renewal and amendment of a permit to take captive held white-collared mangabeys (Cercocebus torquatus) through limited invasive sampling including anesthetizing, collecting blood, skin, and bone marrow tissue samples, and MRI scanning, usually, but not always, during routine veterinary examinations for the purpose of scientific research. This notification covers activities to be conducted by the applicant over a five-year period.

Applicant: Gibbon Conservation Center, Saugus, CA, PRT-089009.

The applicant requests a permit to import one live female captive-born silvery gibbon (Hylobates moloch) from the Howletts Wild Animal Park, Kent, England, for the purpose of enhancement of the species through captive propagation and conservation education.

Applicant: Sierra Endangered Cat Haven, Dunlap, CA, PRT-087545.

The applicant requests a permit to import two live female captive-born jaguars (Panthera onca) from the La Aurora Zoo, Guatemala, for the purpose of enhancement of the species through conservation education and captive propagation.

Applicant: Thomas A. McCoy, Riverside, CA, PRT-090236.

The applicant requests a permit to import the sport-hunted trophy of one male bontebok (Damaliscus pygargus pygargus) culled from a captive herd maintained under the management program of the Republic of South Africa, for the purpose of enhancement of the survival of the species.

Marine Mammals

The public is invited to comment on the following applications for a permit to conduct certain activities with marine mammals. The applications were submitted to satisfy requirements of the Marine Mammal Protection Act of 1972, as amended (16 U.S.C. 1361 et seq.), and the regulations governing marine mammals (50 CFR Part 18). Written data, comments, or requests for copies of the complete applications or requests for a public hearing on these applications should be submitted to the Director (address above). Anyone requesting a hearing should give specific reasons why a hearing would be appropriate. The holding of such a hearing is at the discretion of the Director.

Applicant: Tav D. Blankenship, Rockwall, TX, PRT-089778.

The applicant requests a permit to import a polar bear (Ursus maritimus) sport hunted from the Northern Beaufort Sea polar bear population in Canada for personal use.

Applicant: Arthur R. Schisler, Northampton, PA, PRT-090230.

The applicant requests a permit to import a polar bear (Ursus maritimus) sport hunted from the Western Hudson Bay polar bear population in Canada for personal use.

Dated: July 23, 2004.
Michael S. Moore,
Senior Permit Biologist, Branch of Permits, Division of Management Authority.

[FR Doc. 04-19171 Filed 8-19-04; 8:45 am]

BILLING CODE 4310-55-P